DEPARTMENT OF AGRICULTURE

Animal and Plant Health Inspection Service

[Docket No. 04-116-1]

Public Meeting; Veterinary Biologics

AGENCY: Animal and Plant Health Inspection Service, USDA.

ACTION: Advance notice of public meeting and request for suggested agenda topics.

SUMMARY: We are issuing this notice to inform producers and users of veterinary biological products, and other interested individuals, that we will be holding our 13th public meeting to discuss regulatory and policy issues related to the manufacture, distribution, and use of veterinary biological products. We are planning the meeting agenda and are requesting suggestions for topics of general interest to producers and other interested individuals.

DATES: The public meeting will be held from Wednesday, April 6, through Friday, April 8, 2005, from 1 p.m. to approximately 5 p.m. on Wednesday, 8:30 a.m. to approximately 5 p.m. on Thursday, and from 8:30 a.m. to approximately noon on Friday.

ADDRESSES: The public meeting will be held in the Scheman Building at the Iowa State Center, Iowa State University, Ames, IA.

FOR FURTHER INFORMATION CONTACT: For further information on agenda topics, contact Mr. Steven A. Karli, Director, Center for Veterinary Biologics, Veterinary Services, APHIS, 510 South 17th Street, Suite 104, Ames, IA 50010-8197; phone (515) 232-5785, fax (515) 232-7120, or e-mail CVB@aphis.usda.gov. For registration information, contact Ms. Nicole Ruffcorn at the same address and fax number; phone (515) 232-5785 extension 127; or e-mail Nicole.L.Ruffcorn@aphis.usda.gov.

SUPPLEMENTARY INFORMATION: Since 1989, the Animal and Plant Health Inspection Service (APHIS) has held 12 public meetings in Ames, IA, on veterinary biologics. The meetings provide an opportunity for the exchange of information between APHIS representatives, producers and users of veterinary biological products, and other interested individuals. APHIS is in the process of planning the agenda for the 13th such meeting, which will be held April 6 through April 8, 2005.

The agenda for the meeting is not yet complete. Topics that have been suggested include: (1) Autogenous biologics and their role in the treatment/prevention of disease; (2) transmissible spongiform encephalopathies and their impact on veterinary biologics production; (3) current Center for Veterinary Biologics activities; (4) updates on regulatory initiatives; and (5) novel vaccine technologies. Before finalizing the agenda, APHIS is seeking suggestions for additional meeting topics from the interested public.

We would also like to invite interested individuals to use this meeting to present their ideas and suggestions concerning the licensing, manufacturing, testing, distribution, and regulation of products for the diagnosis, prevention, and treatment of diseases of animals.

Please submit suggested meeting topics and proposed presentation titles to Mr. Steven A. Karli (see FOR FURTHER INFORMATION CONTACT above) on or before December 6, 2004. For proposed presentations, please include the name(s) of the presenter(s) and the approximate amount of time that will be needed for each presentation.

After the agenda is finalized, APHIS will announce the agenda topics in the Federal Register.

Done in Washington, DC, this 1st day of November 2004.
Elizabeth E. Gaston,
Acting Administrator, Animal and Plant Health Inspection Service.

[FR Doc. E4-3008 Filed 11-3-04; 8:45 am]

BILLING CODE 3410-34-P